DEPARTMENT OF THE INTERIOR

Bureau of Land Management

[14XF5020LA FF01R05000 FVRS 8451 01 0000 0; IDI-29793]

Public Land Order No. 7830; Extension of Public Land Order No. 7130; Idaho

AGENCY: Bureau of Land Management, Interior.

ACTION: Public land order.

SUMMARY: This order extends Public Land Order No. 7130 for an additional 20-year period. This extension is necessary to continue to protect and reserve the lands for the U.S. Fish and Wildlife Service Grays Lake Refuge Headquarters in Bonneville County, Idaho, which would otherwise expire on March 30, 2015.

DATES: Effective Date: March 31, 2015.

FOR FURTHER INFORMATION CONTACT: Jeff Cartwright, BLM Idaho State Office, 208-962-3680. Persons who use a telecommunications device for the deaf (TDD) may call the Federal Information Relay Service (FIRS) at 1-800-877-8339 to reach the Bureau of Land Management contact. The FIRS is available 24 hours a day, 7 days a week, to leave a message or question with the above individual. You will receive a reply during normal business hours.

SUPPLEMENTARY INFORMATION: The purpose for which the withdrawal was first made requires this extension in order to continue to protect and reserve the lands for use as an administrative site—the U.S. Fish and Wildlife Service Grays Lake Refuge Headquarters. The withdrawal extended by this order will expire on March 30, 2035, unless, as a result of a review conducted prior to the expiration date pursuant to Section 204(f) of the Federal Land Policy and Management Act of 1976, (43 U.S.C. 1714 (f)), the Secretary determines that the withdrawal shall be further extended.

Order

By virtue of the authority vested in the Secretary of the Interior by Section 204 of the Federal Land Policy and Management Act of 1976, (43 U.S.C. 1714), it is ordered as follows:

Public Land Order No. 7130 (60 FR 16585 (1995)), which transferred jurisdiction of 37.5 acres of public land withdrawn from settlement, sale, location or entry under the public land laws, including the United States mining laws, but not the mineral leasing laws, from the U.S. Forest Service to the U.S. Fish and Wildlife in order to protect the Grays Lake Refuge Headquarters, is hereby extended until March 30, 2035.

Dated: February 7, 2015.
Janice M. Schneider,
Assistant Secretary—Land and Minerals Management.

[FR Doc. 2015-03508 Filed 2-19-15; 8:45 am]

BILLING CODE 4310-55-P